DEPARTMENT OF COMMERCE

National Oceanic and Atmospheric Administration

50 CFR Part 660

[Docket No. 100212086-0354-04]

RIN 0648-AY68

Fisheries Off West Coast States; Pacific Coast Groundfish Fishery Management Plan; Amendments 20 and 21; Trawl Rationalization Program; Correction

AGENCY: National Marine Fisheries Service (NMFS), National Oceanic and Atmospheric Administration (NOAA), Commerce.

ACTION: Final rule; correction.

SUMMARY: This final rule corrects trip limits for commercial groundfish fisheries through the end of 2010 to reflect recent changes that were implemented on October 4, 2010. This final rule is necessary to ensure that the correct trip limit tables remain effective after November 1, 2010.

DATES: This rule is effective November 1, 2010.

SUPPLEMENTARY INFORMATION:

Background

On October 1, 2010, NMFS published a final rule (75 FR 32994, 100212086-0354-04) that implemented certain key components necessary for issuance of permits and endorsements in time for use in the 2011 fishery and in order to have the 2011 specifications reflect the new allocation scheme (the “Initial Issuance Final Rule”). In addition, that rule restructured the entire Pacific Coast groundfish regulations to more closely track the organization of the proposed management measures and to make the total groundfish regulations more clear.

On October 4, 2010, NMFS published inseason adjustments, effective October 1, 2010, to commercial trip limits that were recommended by the Pacific Fishery Management Council (Council) at its September 10-16, 2010 meeting in Boise, ID. These changes in the trip limit tables included increases for the remainder of the year to bimonthly cumulative limits in the limited entry trawl commercial fisheries off Washington, Oregon, and California, and reductions to daily trip limits (DTL) for sablefish in the limited entry fixed gear and open access commercial fisheries south of 36° N. lat.

The trip limit tables that published in the October 1, 2010, initial issuance final rule did not include the October 4, 2010, inseason changes to commercial trip limits. Without action to correct the trip limit tables in the initial issuance final rule, the inseason adjustments in the October 4, 2010, inseason final rule will be undone on November 1, 2010, when the initial issuance final rule becomes final.

Accordingly, this final rule corrects the trip limit tables in the trawl fishery for sablefish, shortspine and longspine thornyheads, Dover sole, arrowtooth flounder and other flatfish (Table 1 North and Table 1 South to Part 660, Subpart D) consistent with the October 4, 2010, inseason changes. This final rule also corrects the trip limit tables in the limited entry fishery south of 36° N. lat. (Table 2 South to Part 660, Subpart E) and open access fisheries (Table 3 South to Part 660, Subpart F) south of 36° N. lat. for sablefish consistent with October 4, 2010 inseason changes.

Classification

For the following reasons, NMFS finds good cause to waive prior notice and comment and the 30-day delay in effectiveness pursuant to 5 U.S.C. 553 so that this correction is effective on November 1, 2010, concurrent with the October 1, 2010, initial issuance final rule (75 FR 32994).

The correction to the trip limit tables in the limited entry trawl fishery must be implemented in a timely manner to allow fishermen an opportunity to achieve the 2010 OYs specified for sablefish, longspine and shortspine thornyheads, Dover sole, arrowtooth flounder, other flatfish, and slope rockfish. Increases are necessary to relieve a restriction by allowing fishermen increased opportunities to harvest available healthy stocks while staying within the OYs for all species. These corrections must be implemented in a timely manner, as quickly as possible, so that fishermen are allowed consistent, increased opportunities to harvest available healthy stocks and meet the objective of the Pacific Coast Groundfish FMP to allow fisheries to approach, but not exceed, OYs.

Corrections to restrict cumulative limits in the limited entry fixed gear and open access sablefish DTL fishery are needed to prevent the 2010 sablefish OY in the area South of 36° N. lat. from being exceeded and prevent premature closure of fisheries that take sablefish. This correction must be implemented in a timely manner by November 1, 2010. Failure to correct the October 4, 2010, trip limit restrictions by November 1, 2010, would risk premature closure of fisheries that are important to coastal communities, which would fail to meet the objectives of the Pacific Coast Groundfish FMP to allow for year round fishing opportunities to provide community stability.

These corrections are needed to keep the harvest of groundfish species within the harvest levels projected for 2010, while allowing fishermen access to healthy stocks. Without these measures in place, the fisheries could risk exceeding harvest levels, causing early and unanticipated fishery closures and economic harm to fishing communities. Delaying this correction would put management measures in place that are not based on the best available data and that could lead to early closures of the fishery if harvest of groundfish exceeds levels projected for 2010. Such delay would impair achievement of one of the Pacific Coast Groundfish FMP objectives of providing for year-round harvest opportunities or extending fishing opportunities as long as practicable during the fishing year.

List of Subjects in 50 CFR Part 660

Fisheries, Fishing, and Indian fisheries.

Dated: October 27, 2010.
John Oliver,
Deputy Assistant Administrator for Operations, National Marine Fisheries Service.

For the reasons set out in the preamble, 50 CFR Chapter VI is amended as follows:

PART 660—FISHERIES OFF WEST COAST STATES

1. The authority citation for part 660 continues to read as follows:

Authority: 16 U.S.C. 1801 et seq. and 16 U.S.C. 7001 et seq.

2. Table 1 (North) and Table 1 (South) to part 660, subpart D are revised to read as follows:

BILLING CODE 4160-01-P

3. Table 2 (South) to part 660, subpart E is revised to read as follows:

4. Table 3 (South) to part 660, subpart F is revised to read as follows:

[FR Doc. 2010-27536 Filed 10-29-10; 8:45 am]

BILLING CODE 3510-22-C